SMALL BUSINESS ADMINISTRATION

[Disaster Declaration #20699 and #20700; FLORIDA Disaster Number FL-20012]

Presidential Declaration Amendment of a Major Disaster for the State of Florida

AGENCY: U.S. Small Business Administration.

ACTION: Amendment 4.

SUMMARY: This is an amendment of the Presidential declaration of a major disaster for the State of Florida (FEMA-4828-DR), dated September 28, 2024.

Incident: Hurricane Helene.

DATES: Issued on October 23, 2024.

Incident Period: September 23, 2024, and continuing.

Physical Loan Application Deadline Date: November 27, 2024.

Economic Injury (EIDL) Loan Application Deadline Date: June 30, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Florida, dated September 28, 2024, is hereby amended to include the following areas as adversely affected by the disaster:

Primary Counties (Physical Damage and Economic Injury Loans): DeSoto

Contiguous Counties (Economic Injury Loans Only): The contiguous counties to DeSoto were previously declared.

All other information in the original declaration remains unchanged.

(Catalog of Federal Domestic Assistance Number 59008)

Rafaela Monchek,
Deputy Associate Administrator, Office of Disaster Recovery & Resilience.

[FR Doc. 2024-25133 Filed 10-29-24; 8:45 am]

BILLING CODE 8026-09-P